DEPARTMENT OF THE INTERIOR

Fish and Wildlife Service

[FWS-R8-ES-2009-N0014; 80221-1113-0000-F5]

Endangered Species Recovery Permit Applications

AGENCY: Fish and Wildlife Service, Interior.

ACTION: Notice of receipt of permit applications; request for comment.

SUMMARY: We invite the public to comment on the following applications to conduct certain activities with endangered species.

DATES: Comments on these permit applications must be received on or before February 25, 2009.

ADDRESSES: Written data or comments should be submitted to the U.S. Fish and Wildlife Service, Endangered Species Program Manager, Region 8, 2800 Cottage Way, Room W-2606, Sacramento, CA 95825 (telephone: 916-414-6464; fax: 916-414-6486). Please refer to the respective permit number for each application when submitting comments. All comments received, including names and addresses, will become part of the official administrative record and may be made available to the public.

FOR FURTHER INFORMATION CONTACT: Daniel Marquez, Fish and Wildlife Biologist, see ADDRESSES (telephone: 760-431-9440; fax: 760-431-9624).

SUPPLEMENTARY INFORMATION: The following applicants have applied for scientific research permits to conduct certain activities with endangered species pursuant to section 10(a)(1)(A) of the Endangered Species Act (16 U.S.C. 1531 et seq.). The U.S. Fish and Wildlife Service (“we”) solicits review and comment from local, State, and Federal agencies, and the public on the following permit requests. Before including your address, phone number, e-mail address, or other personal identifying information in your comment, you should be aware that your entire comment—including your personal identifying information—may be made publicly available at any time. While you can ask us in your comment to withhold your personal identifying information from public review, we cannot guarantee that we will be able to do so.

Permit No. TE-203081

Applicant: John P. LaBonte, Santa Barbara, California

The applicant requests a permit to take (survey by pursuit) the El Segundo Blue butterfly (Euphilotes battoides allyni), and take (capture, collect, and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys throughout the range of each species in California for the purpose of enhancing their survival.

Permit No. TE-031913

Applicant: Morgan L. Ball, Lompoc, California

The applicant requests an amendment to take (survey by pursuit) the El Segundo Blue butterfly (Euphilotes battoides allyni), and take (capture, collect, and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys throughout the range of each species in California for the purpose of enhancing their survival.

Permit No. TE-203835

Applicant: Rachel M. Posten, Long Beach, California

The applicant requests a permit to take (harass by survey and monitor nests) the southwestern willow flycatcher (Empidonax trailli extimus) and take (monitor nests) the least Bell's vireo (Vireo bellii pusillus) in conjunction with surveys and monitoring activities throughout the range of the species in California for the purpose of enhancing its survival.

Permit No. TE-148554

Applicant: Amber S. Oneal, Costa Mesa, California

The applicant requests an amendment to take (harass by survey) the southwestern willow flycatcher (Empidonax trailli extimus) in conjunction with surveys throughout the range of the species in California, Nevada, Arizona, New Mexico, and Utah for the purpose of enhancing its survival.

Permit No. TE-809232

Applicant: Bio-West Incorporated, Logan, Utah

The applicant requests an amendment to remove/remove to possession the Nitrophila mohavensis (Amargosa Niterwort) from federal lands in conjunction with genetic research sampling for the purpose of enhancing their survival.

Permit No. TE-204452

Applicant: Bureau of Land Management, Hollister, California

The applicant requests a permit to remove/remove to possession the Caulanthus californicus (California jewelflower) and Monolopia congdonii (San Joaquin wooly-threads) from federal lands in conjunction with a seed bank collection and viability analysis for the purpose of enhancing their survival.

Permit No. TE-204436

Applicant: Johanna M. Kisner, Orcutt, California

The applicant requests a permit to take (survey, capture, and release) the tidewater goby (Eucyclogobius newberryi), in conjunction with surveys and population monitoring throughout the range of the species in California, for the purpose of enhancing its survival.

Permit No. TE-204468

Applicant: Michael J. Walgren, Woodland Hills, California

The applicant requests a permit to take (harass by survey and handle) the Morro shoulderband snail (Helminthoglypta waleriana) in conjunction with surveys throughout the range of the species in California, for the purpose of enhancing its survival.

We solicit public review and comment on each of these recovery permit applications. Comments and materials we receive will be available for public inspection, by appointment, during normal business hours at the address listed in the ADDRESSES section of this notice.

Dated: January 16, 2009.
Amedee Brickey,
Acting Regional Director, Region 8, Sacramento, California.

[FR Doc. E9-1599 Filed 1-23-09; 8:45 am]

BILLING CODE 4310-55-P